DEPARTMENT OF STATE

[Public Notice 5429]

Exchange Visitor Program—Training and Internship: Supplemental—Notice of Proposed Information Collection: DS-7002, Training/Internship Placement Plan, OMB Control Number 1405-XXXX.

ACTION: Notice of request for public comment and submission to OMB of proposed collection of information in connection with rulemaking.

SUMMARY: In a notice of proposed rulemaking published in the Federal Register on April 7, 2006 (71 FR 17778) regarding proposed revisions to its training/internship programs administered by the Bureau of Educational and Cultural Affairs, the Department of State stated that the proposed rule contained a collection of information requirement for Purposes of the Paperwork Reduction Act. The Department further stated that it would be submitted to OMB for review and be the subject of a separate Federal Register notice and request for public comment. Accordingly, the Department has submitted the following information collection request to the Office of Management and Budget (OMB) for approval in accordance with the Paperwork Reduction Act of 1995.

• Title of Information Collection: Training/Internship Placement Plan.

• OMB Control Number: 1405-XXXX.

• Type of Request: New Collection.

• Originating Office: Office of Exchange Coordination and Designation, Bureau of Educational and Cultural Affairs, Department of State.

• Form Number: DS-7002.

• Respondents: Exchange Visitor Program designated sponsors for foreign nationals who wish to participate in structured training or internship programs offered by U.S. businesses.

• Estimated Number of Respondents: 160 per year.

• Estimated Number of Responses: 30,000 per year.

• Average Hours per Response: 60 minutes.

• Total Estimated Burden: 30,000 hours.

• Frequency: On occasion.

• Obligation to Respond: Required to obtain or retain a benefit.

DATES: Submit comments to the Office of Management and Budget (OMB) for up to 30 days from June 1, 2006. This does not affect the deadline for the public to comment to the Department on the proposed regulations.

ADDRESSES: Direct comments and questions to Katherine Astrich, the Department of State Desk Officer in the Office of Information and Regulatory Affairs at the Office of Management and Budget (OMB), who may be reached at (202) 395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: Direct requests for additional information regarding the collection listed in this notice, including requests for copies of the proposed information collection and supporting documents, to Karen Hawkins, Office of Exchange Coordination and Designation, U.S. Department of State, SA-44, 301 4th Street, SW., Room 734, Washington, DC 20547 who may be reached on 202-203-5096 or at jexchanges@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The information collected will be used by foreign nationals entering the United States to participate in a structured training or internship program by U.S. businesses that are providing the training or internship opportunity, and by entities, designated by the Department of State to facilitate such program activities. The information on the form sets forth the terms and conditions of the training or internship program, and serve to document the obligations of the three parties that are involved in the transaction.

Methodology

A PDF version of the DS-7002 will be available on the Department's Freedom of Information Act Web site and Bureau of Education and Cultural Affairs Web site. Sponsors will fill out the information collection instruments, which must be signed by the trainees or interns, and submit them to the Department by mail or fax as requested. Upon request, trainees or interns must present fully executed Trainee/Internship Placement Plans (Form DS-7002) to any Consular Official interviewing them in connection with the issuance of J-1 visas.

Dated: May 15, 2006.
Stanley S. Colvin,
Director, Office of Exchange Coordination and Designation, Bureau of Education and Cultural Affairs, Department of State.

[FR Doc. E6-8515 Filed 5-31-06; 8:45 am]

BILLING CODE 4710-05-P